DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Analyzing Title V Programs in the Context of the Affordable Care Act

OMB No.: 0915-xxxx—New

Abstract: The Affordable Care Act (ACA) will make affordable health coverage available to all legal U.S. residents, as well as guide transformation in the delivery of medicine and public health services. For children, expanded coverage has come about gradually over the past two decades and implementation of major coverage provisions of the ACA in 2014 will result in some shifts in child health coverage.

The Title V Maternal and Child Health (MCH) Block Grant, administered by the Health Resources and Services Administration's Maternal and Child Health Bureau, provides the foundation for ensuring the health of the nation's mothers, women, children, and youth, including children and youth with special health care needs and their families. Many ACA provisions, like state Medicaid expansions and mandatory health insurance, will change the face of health insurance demand and services provided. In response, State Title V programs will focus on increasing access, equality, and health equity.

A proposed data collection form has been developed to collect health care services budget information from Title V MCH Block Grant recipients to better understand the types of direct services currently provided by Title V MCH programs. This form will request information on expenditures for medical services in addition to data on the individuals served.

Need and Proposed Use of the Information: As children shift between coverage categories as a result of implementation of the ACA, HRSA would like to quantify the impact of these shifts on the federal investment in Title V funding specifically through the federal funds provided via the Title V MCH Block Grant. To do this, HRSA will need to survey states to collect information on whether they use federal Title V MCH Block Grant funds to reimburse health care practitioners who provide services to children and pregnant women.

Likely Respondents: The respondents to the survey will be the Title V Program Directors in the states, the District of Columbia, and Puerto Rico.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Title V Health Care Services Budget Survey | 52 | 1 | 52 | 36 | 1,872
Total | 52 | 1 | 52 | 36 | 1,872

Dated: August 1, 2013.
Bahar Niakan,
Director, Division of Policy and Information Coordination.

[FR Doc. 2013-19124 Filed 8-7-13; 8:45 am]

BILLING CODE 4165-15-P